DEPARTMENT OF ENERGY

Federal Energy Regulatory Commission

[Docket No. EC02-97-000, et al.]

Wisconsin Public Service Corporation, et al.; Electric Rate and Corporate Regulation Filings

August 1, 2002.

The following filings have been made with the Commission. The filings are listed in ascending order within each docket classification.

1. Wisconsin Public Service Corporation; De Pere Energy L.L.C.

[Docket No. EC02-97-000]

Take notice that on July 26, 2002, Wisconsin Public Service Corporation (WPSC) and De Pere Energy L.L.C. (De Pere Energy) tendered for filing with the Federal Energy Regulatory Commission (Commission) a joint Application pursuant to Section 203 of the Federal Power Act and Part 33 of the Commission's Regulations requesting authorization for De Pere Energy to sell to WPSC the De Pere Energy Center, a 180 MW electric generating facility, including associated transformers and switchyard equipment.

Copies of the filing were served upon the Public Service Commission of Wisconsin and the Michigan Public Service Commission.

Comment Date: August 16, 2002.

2. American Atlas No. 1, Ltd., L.L.L.P.

[Docket No. EC02-98-000]

Take notice that on July 26, 2002, American Atlas No. 1, Ltd., L.L.L.P. (Atlas) tendered for filing an application requesting all necessary authorizations under Section 203 of the Federal Power Act for the sale by Atlas to Tri-State Generation and Transmission Association, Inc. of Atlas's interests in the jurisdictional assets associated with a nominal 75-megawatt cogeneration power plant located in Rifle, Colorado, and known as the American Atlas No. 1 Cogeneration Facility.

Comment Date: August 16, 2002.

3. La Paloma Generating Trust Ltd.; La Paloma Generating Company, LLC

[Docket No. EC02-99-000]

Take notice that on July 26, 2002, La Paloma Generating Trust Ltd. (La Paloma Trust) and La Paloma Generating Company, LLC (La Paloma Gen), tendered for filing with the Federal Energy Regulatory Commission (Commission), pursuant to Section 203 of the Federal Power Act, 16 U.S.C. 824b (1994), and part 33 of the Commission's regulations, 18 CFR part 33, an application to authorize an assignment of beneficial interests in La Paloma Trust to La Paloma Gen.

Comment Date: August 16, 2002.

4. Big Cajun I Peaking Power LLC

[Docket No. EG02-120-000]

Take notice that on July 30, 2002, Big Cajun I Peaking Power LLC (Big Cajun I Peaking) filed with the Federal Energy Regulatory Commission (Commission) an amendment to its application for determination of exempt wholesale generator status pursuant to section 32 of the Public Utility Holding Company Act of 1935 (PUHCA) and part 365 of the Commission's regulations.

As more fully explained in the application, Big Cajun I Peaking stated that it is a limited liability company that will be engaged either directly or indirectly and exclusively in the business of owning and operating an electric generation facility located in Louisiana.

Comment Date: August 21, 2002.

5. Rocky Mountain Power, Inc.

[Docket No. EG02-173-000]

Take notice that on July 30, 2002, Rocky Mountain Power, Inc. a Montana corporation (Applicant), with its principal executive office at 918 East Divide Avenue, Bismarck, North Dakota, 58506-5650, filed with the Federal Energy Regulatory Commission (Commission) an application for determination of exempt wholesale generator (EWG) status pursuant to part 365 of the Commission's regulations and Section 32 of the Public Utility Holding Company Act of 1935, as amended.

Applicant is in the process of developing a 113 MW (gross) coal-fired, simple-cycle electrical generating facility to be located in Big Horn County, Hardin, Montana. Applicant states that it will be engaged directly and exclusively in the business of owning and operating eligible facilities and selling electric energy at wholesale. Comment Date: August 22, 2002.

6. Atlantic City Electric Company

[Docket No. ER99-2781-001]

Take notice that on July 29, 2002, Atlantic City Electric Company (Atlantic City) tendered for filing its triennial market power analysis in support of its market-based rate authority in compliance with the Federal Energy Regulatory Commission's May 16, 1996, order accepting Atlantic City's updated market-based tariff. Atlantic City Electric Co., 75 FERC 61,167.

Comment Date: August 19, 2002.

7. Delmarva Power & Light Company

[Docket No. ER99-2781-002]

Take notice that on July 29, 2002, Delmarva Power & Light Company (Delmarva) tendered for filing its triennial market power analysis in support of its market-based rate authority in compliance with the Federal Energy Regulatory Commission's September 26, 1996, order accepting Delmarva's updated market-based tariff. Delmarva Power & Light Co., 75 FERC 61,331.

Comment Date: August 19, 2002.

8. Duke Energy St. Francis LLC

[Docket No. ER99-3118-002]

Take notice that on July 29, 2002, Duke Energy St. Francis LLC (Duke St. Francis) tendered for filing its triennial market power analysis in compliance with the Federal Energy Regulatory Commission Order granting it market-based rate authority in Docket No. ER99-3118-000 on July 28, 1999.

Copies of this filing were served upon those parties on the official service list. Comment Date: August 19, 2002.

9. Tenaska Georgia Partners, L.P.

[Docket No. ER99-3165-001]

Take notice that on July 29, 2002, Tenaska Georgia Partners, L.P.,(Tenaska Georgia) submitted for filing with the Federal Energy Regulatory Commission its triennial updated market analysis in accordance with Appendix B of the Commission's Order in Minergy Neenah, L.L.C. 88 FERC 61,102.

Questions concerning this filing may be directed to counsel for Tenaska Georgia, Neil L. Levy, Kirkland & Ellis, 655 Fifteenth Street, NW., Suite 1200, Washington, DC 20005, Phone (202) 879-5116, Fax (202) 879-5200, e-mail Neil_Levy@dc.kirkland.com.

Comment Date: August 19, 2002.

10. PacifiCorp

[Docket No. ER02-2333-001]

Take notice that on July 26, 2002, PacifiCorp submitted for filing the First Amended and Restated Long-Term Power Sales Agreement (Agreement) between PacifiCorp and Southern California Edison Company (SCE). PacifiCorp inadvertently submitted and outdated version of the redline Rate Schedule No. 248. Please substitute the enclosed correct version of the Rate Schedule.

Comment Date: August 16, 2002.

11. Arizona Public Service Company

[Docket No. ER02-2369-000]

Take notice that on July 26, 2002, Arizona Public Service Company (APS) on behalf of itself, and as the Operating Agent for the Four Corners Participants, hereby submits for filing the Interconnection and Operating Agreement (IOA) under its Open Access Transmission Tariff between the Four Corner Participants and the Interconnection Participants.

The Four Corner Participants consist of the joint owners of a 345-kV Switchyard and include APS, El Paso Electric Company (EPE), Public Service Company of New Mexico (PNM), Salt River Project Agricultural Improvement and Power District (SRP), Southern California Edison Company (SCE), and Tucson Electric Power Company (TEP).

The Interconnection Participants consist of Public Service of Colorado (PSCO), Tri-State Generation and Transmission Association, Inc (Tri-State), and the acting by an through the Administrator, Western Area Power Administration, Department of Energy (Western). The Interconnection Participants have rights to a Shiprock-Four Corners Transmission Line and desire an interconnection to the 345-kV Switchyard of the Four Corner Participants.

A copy of this filing has been served on parties, the appropriate state commissions, and the United States Department of Agriculture, Rural Utilities Service (RUS).

Comment Date: August 16, 2002.

12. California Independent System Operator Corporation

[Docket No. ER02-2370-000]

Take notice that on July 26, 2002, the California Independent System Operator Corporation (ISO) tendered for filing First Revised Service Agreement No. 305 under FERC Electric Tariff, Original Volume No. 1, which is a Participating Generator Agreement (PGA) between the ISO and Gas Recovery Systems, Inc (Gas Recovery Systems). The ISO has revised the PGA to update Original Volume No. 1 of the PGA.

The ISO requests that the revised PGA be made effective as of June 12, 2000. The ISO states that this filing has been served on all entities that are on the official service list for Docket No. ER00-3007-000.

Comment Date: August 16, 2002.

13. DePere Energy L.L.C.

[Docket No. ER02-2371-000]

Take notice that on July 26, 2002, DePere Energy L.L.C. (DePere) filed a Notice of Cancellation of its Power Purchase Agreement with Wisconsin Public Service Corporation (WPSC), which has been designated as DePere's Rate Schedule FERC No. 1. DePere proposes that the cancellation be effective as of the closing date for the proposed sale of the DePere Energy Center to WPSC.

Comment Date: August 16, 2002.

14. PJM Interconnection, L.L.C.

[Docket No. ER02-2372-000]

Take notice that on July 26, 2002 PJM Interconnection, L.L.C. (PJM), submitted for filing with the Federal Energy Regulatory Commission (Commission) an executed interim interconnection service agreement between PJM and Exelon Corporation.

PJM requests a waiver of the Commission's 60-day notice requirement to permit the effective date agreed to by the parties. Copies of this filing were served upon each of the parties to the agreements and the state regulatory commissions within the PJM region.

Comment Date: August 16, 2002.

15. PJM Interconnection, L.L.C.

[Docket No. ER02-2373-000]

Take notice that on July 26, 2002 PJM Interconnection, L.L.C. (PJM), submitted for filing with the Federal Energy Regulatory Commission (Commission) one executed interconnection service agreement between PJM and FPL Energy Marcus Hook, L.P. and one executed interim interconnection service agreement between PJM and Delaware Municipal Electric Cooperative.

PJM requests a waiver of the Commission's 60-day notice requirement to permit the effective dates agreed to by the parties. Copies of this filing were served upon each of the parties to the agreements and the state regulatory commissions within the PJM region.

Comment Date: August 16, 2002.

16. PJM Interconnection, L.L.C.

[Docket No. ER02-2374-000]

Take notice that on July 26, 2002, PJM Interconnection, L.L.C. (PJM), submitted for filing with the Federal Energy Regulatory Commission (Commission) one executed interim interconnection service agreement between PJM and PSEG Fossil L.L.C. and two executed interconnection service agreements between PJM and Free State Electric, LLC.

PJM requests a waiver of the Commission's 60-day notice requirement to permit the effective dates agreed to by the parties. Copies of this filing were served upon each of the parties to the agreements and the state regulatory commissions within the PJM region.

Comment Date: August 16, 2002.

17. PPL Electric Utilities Corporation

[Docket No. ER02-2375-000]

Take notice that on July 26, 2002, PPL Electric Utilities Corporation (PPL Electric) filed notice of termination of the Service Agreement between it and Sempra Energy Trading Corp. designated as Service Agreement No. 157 under PPL Electric Utilities Corporation's Market-Based Rate and Resale of Transmission Rights Tariff, FERC Electric Tariff, Revised Volume No. 5.

PPL Electric requests that the termination be effective on September 24, 2002. Notice of the termination has been served upon Sempra Energy Trading Corp.

Comment Date: August 16, 2002.

18. Southwest Power Pool, Inc.

[Docket No. ER02-2376-000]

Take notice that on July 29, 2002, Southwest Power Pool, Inc. (SPP) submitted for filing an unexecuted service agreement for Firm Point-to-Point Transmission Service with Kansas Municipal Energy Agency. (Transmission Customer).

SPP seeks an effective date of July 1, 2002 for this service agreement. The Transmission Customer was served with a copy of this filing.

Comment Date: August 19, 2002.

19. Midwest Generation, LLC

[Docket No. ER02-2377-000]

Take notice that on July 29, 2002, Midwest Generation, LLC. (Midwest) , tendered for filing a First Revised Service Agreement No. 2 under Midwest FERC Electric Tariff, Original Volume No. 1 (the Peaking Generating Station Power Purchase Agreement between Commonwealth Edison Company and Midwest).

Comment Date: August 19, 2002.

20. Southern Company Services, Inc.

[Docket No. ER02-2378-000]

Take notice that on July 29, 2002, Southern Company Services, Inc. (SCS), acting on behalf of Alabama Power Company, Georgia Power Company, Gulf Power Company, Mississippi Power Company, and Savannah Electric and Power Company (collectively Southern Companies), filed a Notice of Cancellation of twenty (20) transmission service agreements under the Open Access Transmission Tariff of Southern Companies (Tariff) (FERC Electric Tariff, Fourth Revised Volume No. 5). These cancellations include non-firm point-to-point transmission service agreements under the Tariff between SCS, as agent for Southern Companies, and (I) Valero Power Service Company (Service Agreement No. 33); (ii) Heartland Energy Services (Service Agreement No. 1); (iii) Federal Energy Sales, Inc. (Service Agreement No. 38); (iv) Coastal Electric Service Company (Service Agreement No. 12); (v) KN Marketing, Inc. (Service Agreement No. 37); (vi) Catex Vitol Electric, LLC (Service Agreement No. 9); (vii) Progress Power Marketing, Inc. (Service Agreement No. 53); (viii) PECO Energy Company (Service Agreement No. 44); (ix) Calpine Power Services Company (Service Agreement No. 61); (x) Central Louisiana Electric Company (Service Agreement No. 73); (xi) City of Gainesville, Florida (Service Agreement No. 204); (xii) CMEX Energy, Inc. (Service Agreement No. 24); (xiii) Gulf Stream Energy (Service Agreement No. 40); (ivx) PanEnergy Power Services, Inc. (Service Agreement No. 49); (vx) Questar Energy Trading Company (Service Agreement No. 52); (vxi) Union Electric Company (Service Agreement No. 65); (vxii) Utilicorp United, Inc., (Service Agreement No. 57); and (vxiii) Wisconsin Power & Light (Service Agreement No. 56). Additionally, the Notice of Cancellation includes the Short Term Firm Point-to-Point Transmission Service Agreement between SCS, as agent for Southern Companies, and Catex Vitol Electric, LLC, designated Service Agreement No. 13 under the Tariff as well as the Short Term Firm Point-to-Point Transmission Service Agreement between SCS, as agent for Southern Companies, and PECO Energy Company, designated Service Agreement No. 198 under the Tariff.

Comment Date: August 19, 2002.

21. Xcel Energy Services, Inc. Public Service Company of Colorado

[Docket No. ER02-2379-000]

Take notice that on July 29, 2002, Xcel Energy Services, Inc. (XES), on behalf of Public Service Company of Colorado (PSCo) submitted for filing with the Federal Energy Regulatory Commission (Commission) the Generation Interconnection Agreement between PSCo and Thermo Cogeneration Partnership, L.P.

PSCo requests the letter agreements be accepted for filing effective July 1, 2002, and requests waiver of the Commission's notice requirements in order for the Agreements to be accepted for filing on the date requested.

Comment Date: August 19, 2002.

22. Madison Gas and Electric Company

[Docket No. ER02-2380-000]

Take notice that on July 29, 2002, Madison Gas and Electric Company (MGE) tendered for filing a service agreement under MGE's Market-Based Power Sales Tariff with NRG Power Marketing Inc.

MGE requests the agreement be effective on the date it was filed with the Federal Energy Regulatory Commission.

Comment Date: August 19, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson, Jr.,
Deputy Secretary.

[FR Doc. 02-20041 Filed 8-7-02; 8:45 am]

BILLING CODE 6717-01-P